DEPARTMENT OF ENERGY

Federal Energy Regulatory Commission

[Docket No. EL13-46-000]

Louisville Gas and Electric Company; Notice of Initiation of Proceeding and Refund Effective Date

On February 28, 2013, the Commission issued an order that initiated a proceeding in Docket No. EL13-46-000, pursuant to section 206 of the Federal Power Act (FPA), 16 U.S.C. 824e (2006), to determine the justness and reasonableness of the proposed tariff revisions by Louisville Gas and Electric Company. Louisville Gas and Electric Company, 142 FERC ¶ 61,157 (2013).

The refund effective date in Docket No. EL13-46-000, established pursuant to section 206(b) of the FPA, will be the date of publication of this notice in the Federal Register.

Dated: February 28, 2013.
Nathaniel J. Davis, Sr.,
Deputy Secretary.

[FR Doc. 2013-05133 Filed 3-5-13; 8:45 am]

BILLING CODE 6717-01-P